CORPORATION FOR NATIONAL AND COMMUNITY SERVICE

Information Collection; Submission for OMB Review, Comment Request

AGENCY: Corporation for National and Community Service.

ACTION: Notice.

SUMMARY: The Corporation for National and Community Service (CNCS) has submitted an amended public information collection request (ICR) entitled The Civic Engagement and Volunteering Supplement for review and approval in accordance with the Paperwork Reduction Act of 1995. The original public information collection request was published on May 11, 2017. It did not include the disposition of public comments received that is included in this amended Notice. Copies of this ICR, with applicable supporting documentation, may be obtained by calling the Corporation for National and Community Service, Anthony Nerino, at 202-606-3913 or email to anerino@cns.gov. Individuals who use a telecommunications device for the deaf (TTY-TDD) may call 1-800-833-3722 between 8:00 a.m. and 8:00 p.m. Eastern Time, Monday through Friday.

DATES: Comments may be submitted, identified by the title of the information collection activity, within June 19, 2017.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

CNCS published a Notice in the Federal Register on February 8, 2017, FR Doc. 2017-02527—Vol. 82, No. 25, pp. 9726-9727, inviting public comment on our plans to submit this request. We received six requests for additional information and sixteen comments in response to the Notice. All letters and comments are listed in the attached doc. In summary, of the sixteen comments, 14 raised concerns regarding proposed changes to the volunteer questions. Many of the comments were from volunteer commissions and organizations that represent multiple users.

Primarily the respondents objected to a reduction in the number of questions regarding volunteer activity (organization types, activity types). Four respondents commented on the reduced capacity to track longitudinal rates and possible changes in the volunteer rate over the previous 14 year period. Fifteen respondents indicated that the previous instrument should be re-instated.

In considering these comments CNCS offers the following response. The re-designed supplement is intended to focus on the broader concept of civic engagement, of which volunteerism is one component. The re-designed supplement incorporates many of the recommendations made by the National Academy of Sciences, as well as recommendations made by experts in the field of civic engagement, social capital and volunteering. The Civic Engagement and Volunteering supplement more accurately reflects the mission of the CNCS, building stronger communities and promoting active citizenship through service. The proposed instrument does include some measures that will allow for limited continuity with the previous supplement, however the advantage of a combined supplement is that it will allow the user to assess overall civic activity conditioned by volunteering.

However in response to the comments requesting greater continuity and because the time burden on the new supplement is shorter, CNCS is adding back some original questions regarding volunteer activity and organizations.

Description: This information collection will be used to generate civic health reports at the National, State, and Metropolitan Statistical Area (MSA) levels and to disseminate these data to various stakeholders including state and local government offices, researchers, students and civic groups for strategic planning, grant writing purposes and research.

Type of Review: New.

Agency: Corporation for National and Community Service.

Title: Civic Engagement and Volunteering Supplement.

OMB Number: TBD.

Agency Number: None.

Affected Public: U.S. Residents 16 years of age and older.

Total Respondents: Approximately U.S. 90,000 residents.

Frequency: Bi-annually.

Average Time per Response: 5.26 Minutes.

Estimated Total Burden Hours: 7,890 Hours

Total Burden Cost (capital/startup): None.

Total Burden Cost (operating/maintenance): None.

Dated: May 16, 2017.
Mary Hyde,
Director, Office of Evaluation and Research.

[FR Doc. 2017-10237 Filed 5-18-17; 8:45 am]

BILLING CODE 6050-28-P